FEDERAL COMMUNICATIONS COMMISSION

47 CFR Part 1

[WT Docket No. 03-66; RM-10586; FCC 04-135]

Facilitating the Provision of Fixed and Mobile Broadband Access, Educational and Other Advanced Services in the 2150-2162 and 2500-2690 MHz Bands

AGENCY: Federal Communications Commission.

ACTION: Correcting amendments.

SUMMARY: This document contains corrections to the final regulations, which were published in the Federal Register on Friday, December 10, 2004, (69 FR 72020). The Commission published final rules in the Report and Order, that renamed the Instructional Television Fixed Service (ITFS) as the Educational Broadband Service (EBS) and renames the Multichannel Multipoint Distribution Service (MMDS) and the Multipoint Distribution Service (MDS) as the Broadband Radio Service (BRS). This document corrects the final regulations by revising Section 1.1307.

DATES: Effective January 10, 2005.

FOR FURTHER INFORMATION CONTACT: Nancy J. Brooks, Office of Engineering and Technology, (202) 418-2454 e-mail: Nancy.Brooks@fcc.gov.

SUPPLEMENTARY INFORMATION: The final regulations that are the subject of this correction relate to final rules in the Report and Order, which transformed the rules and policies governing the licensing of the Instructional Television Fixed Service (ITFS) the Multichannel Multipoint Distribution Service (MMDS) and the Multipoint Distribution Service (MDS), in the 2500-2690 bands.

Need for Correction

As published, the final regulations contain errors, which require immediate correction.

List of Subjects in 47 CFR Part 1

Communications common carriers, Communications equipment, Education, Equal employment opportunity, Radio, Reporting and recordkeeping requirements, Television.

Federal Communications Commission.
Marlene H. Dortch,
Secretary.

Accordingly, 47 CFR part 1 is corrected by making the following correcting amendments:

PART 1—PRACTICE AND PROCEDURE

1. The authority citation for part 1 continues to read as follows:

Authority: 47 U.S.C. 151, 154(i), 154(j), 155, 225, 303(r) 309 and 325(e).

2. Section 1.1307 is amended by revising Table 1 immediately following paragraph (b)(1) to read as follows:

§ 1.1307 Actions that may have a significant environmental effect, for which Environmental Assessments (EAs) must be prepared.

* * * * *

(b) * * *

(1) * * *

Table 1.—Transmitters, Facilities and Operations Subject to Routine Environmental Evaluation
Service (title 47 CFR rule part) | Evaluation required if:
Experimental Radio Services (part 5) | Power > 100 W ERP (164 W EIRP).
Paging and Radiotelephone Service (subpart E of part 22) | Non-building-mounted antennas: height above ground level to lowest point of antenna < 10 m and power > 1000 W ERP (1640 W EIRP).
| Building-mounted antennas: power > 1000 W ERP (1640 W EIRP).
Cellular Radiotelephone Service (subpart H of part 22) | Non-building-mounted antennas: height above ground level to lowest point of antenna < 10 m and total power of all channels > 1000 W ERP (1640 W EIRP).
| Building-mounted antennas: total power of all channels > 1000 W ERP (1640 W EIRP).
Personal Communications Services (part 24) | (1) Narrowband PCS (subpart D):
| Non-building-mounted antennas: height above ground level to lowest point of antenna < 10 m and total power of all channels > 1000 W ERP (1640 W EIRP).
| Building-mounted antennas: total power of all channels > 1000 W ERP (1640 W EIRP).
| (2) Broadband PCS (subpart E):
| Non-building-mounted antennas: height above ground level to lowest point of antenna < 10 m and total power of all channels > 2000 W ERP (3280 W EIRP).
| Building-mounted antennas: total power of all channels > 2000 W ERP (3280 W EIRP).
Satellite Communications Services (part 25) | All included.
| In addition, for NGSO subscriber equipment, licensees are required to attach a label to subscriber transceiver antennas that:
| (1) provides adequate notice regarding potential radiofrequency safety hazards, e.g., information regarding the safe minimum separation distance required between users and transceiver antennas; and
| (2) references the applicable FCC-adopted limits for radiofrequency exposure specified in § 1.1310 of this chapter.
Miscellaneous Wireless Communications Services (part 27 except subpart M) | (1) For the 1390-1392 MHz, 1392-1395 MHz, 1432-1435 MHz, 1670-1675 MHz, and 2385-2390 MHz bands:
| Non-building-mounted antennas: height above ground level to lowest point of antenna < 10 m and total power of all channels > 2000 W ERP (3280 W EIRP).
| Building-mounted antennas: total power of all channels > 2000 W ERP (3280 W EIRP).
| (2) For the 698-746 MHz, 746-764 MHz, 776-794 MHz, 2305-2320 MHz, and 2345-2360 MHz bands:
| Total power of all channels > 1000 W ERP (1640 W EIRP).
Broadband Radio Service and Educational Broadband Service (subpart M of part 27) | Non-building-mounted antennas: height above ground level to lowest point of antenna < 10 m and power > 1640 W EIRP.
| Building-mounted antennas: power > 1640 W EIRP.
| BRS and EBS licensees are required to attach a label to subscriber transceiver or transverter antennas that:
| (1) provides adequate notice regarding potential radiofrequency safety hazards, e.g., information regarding the safe minimum separation distance required between users and transceiver antennas; and
| (2) references the applicable FCC-adopted limits for radiofrequency exposure specified in § 1.1310.
Radio Broadcast Services (part 73) | All included.
Experimental Radio, Auxiliary, Special Broadcast and Other Program Distributional Services (part 74) | Subparts A, G, L: power > 100 W ERP.
Stations in the Maritime Services (part 80) | Ship earth stations only.
Private Land Mobile Radio Services Paging Operations (subpart P of part 90) | Non-building-mounted antennas: height above ground level to lowest point of antenna < 10 m and power > 1000 W ERP (1640 W EIRP).
| Building-mounted antennas: power > 1000 W ERP (1640 W EIRP).
Private Land Mobile Radio Services Specialized Mobile Radio (subpart S of part 90) | Non-building-mounted antennas: height above ground level to lowest point of antenna < 10 m and total power of all channels > 1000 W ERP (1640 W EIRP).
| Building-mounted antennas: Total power of all channels > 1000 W ERP (1640 W EIRP).
Amateur Radio Service (part 97) | Transmitter output power > levels specified in § 97.13(c)(1) of this chapter.
Local Multipoint Distribution Service (subpart L of part 101) and 24 GHz (subpart G of part 101) | Non-building-mounted antennas: height above ground level to lowest point of antenna < 10 m and power > 1640 W EIRP.
| Building-mounted antennas: power > 1640 W EIRP.
| LMDS and 24 GHz Service licensees are required to attach a label to subscriber transceiver antennas that:
| (1) provides adequate notice regarding potential radiofrequency safety hazards, e.g., information regarding the safe minimum separation distance required between users and transceiver antennas; and
| (2) references the applicable FCC-adopted limits for radiofrequency exposure specified in § 1.1310.
70/80/90 GHz Bands (subpart Q of part 101) | Non-building-mounted antennas: height above ground level to lowest point of antenna < 10 m and power > 1640 W EIRP.
| Building-mounted antennas: power > 1640 W EIRP.
| Licensees are required to attach a label to transceiver antennas that:
| (1) provides adequate notice regarding potential radiofrequency safety hazards, e.g., information regarding the safe minimum separation distance required between users and transceiver antennas; and
| (2) references the applicable FCC-adopted limits for radiofrequency exposure specified in § 1.1310.

* * * * *

[FR Doc. 06-2422 Filed 3-14-06; 8:45 am]

BILLING CODE 6712-01-P